DEPARTMENT OF HEALTH AND HUMAN SERVICES

National Institutes of Health

Loan Repayment Program for Health Disparities Research

ACTION: Notice.

SUMMARY: The National Institutes of Health (NIH) hereby announces the availability of educational loan repayment under the NIH Loan Repayment Program for Minority Health Disparities Research (HDR-LRP). The NIH HDR-LRP, which was authorized by section 103 of Public Law 106-525, the Minority Health and Health Disparities Research and Education Act of 2000, which added section 485G of the Public Health Service (PHS) Act, provides for the repayment of the educational loan debt of health professionals who have substantial debt relative to income and who agree to conduct minority health disparities research or other health disparities research. Under authority of the extramural HDR-LRP, the “Director of the Center shall establish a program of entering into contracts with qualified health professionals under which such health professionals agree to engage in minority health disparities research or other health disparities research;” in return, the Federal Government agrees to repay for each year of such research, up to $35,000 of their student loan debt. The purpose of the extramural HDR-LRP is the recruitment of highly qualified health professionals to careers in minority health and other health disparities research. The Program will be administered by the National Center on Minority Health and Health Disparities (NCMHD) of the NIH. Through this notice, the NIH invites health professionals who are interested in engaging in minority health and other health disparities research for at least two years to apply for participation in the extramural HDR-LRP. Concurrent with the publication of this notice, NIH is publishing elsewhere in the Federal Register Notification of Request for Emergency Clearance for Modification of the information collection, OMB No. 0925-0361, “National Institutes of Health Loan Repayment Programs,” to obtain approval for the additional information in connection with the application process, with the comment period to close July 31, 2001.

DATES: Interested persons may request information about the HDR-LRP beginning on July 30, 2001.

ADDRESSES: Information regarding the requirements and application procedures for the HDR-LRP may be obtained by calling or writing: National Center on Minority Health and Health Disparities, National Institutes of Health, Democracy II, Suite 800, 6707 Democracy Blvd, MSC 5465, Bethesda, Maryland 20892-5465, Attention: Kenya McRae, telephone (301-402-1366).

SUPPLEMENTARY INFORMATION: The definition of “minority health disparities research” may be found in section 101 of Public Law 106-525, the Minority Health and Health Disparities Research and Education Act of 2000, enacted on November 22, 2000. Minority health disparities research is defined as basic, clinical, and behavioral research on minority health conditions, including research to prevent, diagnose, and treat such conditions. “Minority health conditions” with respect to individuals who are members of minority groups means all diseases, disorders, and conditions (including mental health and substance abuse): (1) Unique to, more serious, or more prevalent in such individuals; (2) for which the medical risk factors or types of medical interventions may be different; (3) for which there has been insufficient research involving such individuals as subjects or for which there is insufficient data on such individuals.

For the purposes of this program, health disparities research is defined as basic, clinical, and behavioral research on health conditions including diseases, disorders, and such other conditions , including the causes of such disparities and methods to prevent, diagnose, and treat the diseases associated with health disparities, that are unique to, more serious, or more prevalent in health disparities populations (either individual members or communities of such populations). “A health disparities population” is defined as a population for which, as determined by the NCMHD Director in consultation with the Director of the Agency for Healthcare Research and Quality, there is a significant disparity in the overall rate of disease incidence, prevalence, morbidity, mortality, or survival rates in the population as compared to the health status of the general population.

The NCMHD Director is required to ensure that not fewer than 50 percent of contracts made through the extramural HDR-LRP are entered into with individuals from health disparities populations and that priority is given to projects of biomedical and behavioral research. At least 50 percent of the successful applicants will be chosen from health disparities populations as defined in Public Law 106-525: “A population is a health disparities population if * * * there is a significant disparity in the overall rate of disease incidence, prevalence, morbidity, mortality, or survival rates in the population as compared to the health status of the general population.” Pursuant to Public Law 106-525, the Director, NCMHD, in consultation with the Director of the Agency for Healthcare Research and Quality, will determine which groups qualify as health disparities populations. For purposes of this announcement, reference may be made to section 2 of Public Law 106-525, entitled “Findings” for some examples of groups currently considered as health disparities populations. Section 2 of Public Law 106-525 expressly states that “there are continuing disparities in the burden of illness and death experienced by African Americans, Hispanics, Native Americans, Alaska Natives and Asian Pacific Islanders' and that “the largest numbers of medically underserved are white individuals * * * [living] below the poverty line with many living in nonmetropolitan, rural areas such as Appalachia, where [a] high percentage of counties [are] designated as health professional shortage areas and the high rate of poverty contribute to disparate outcomes.”

The Minority Heath and Health Disparities Research and Education Act of 2000 (Pub. L. 106-525), adds section 485G of the PHS Act to allows the Director, NCMHD, to enter into contracts for loan repayment with appropriately qualified health professionals who agree to conduct minority health or other health disparities research at NIH-supported or otherwise funded research sites for at least two years. Under such contracts, the Federal Government agrees to repay, for each year of service, not more than $35,000 of the principal and interest of the educational loans of such health professionals.

Eligibility Requirements

Specific eligibility criteria with regard to participation in the HDR-LRP include the following:

(1) Participants must be a United States citizen, national, or permanent resident.

(2) Participants must have a M.D., Ph.D., D.O., D.D.S., Sc.D., or equivalent professional degree.

(3) Participants must have qualifying educational debt in excess of 20 percent of their annual salary, stipend, or compensation at their expected date of program eligibility. The expected date of program eligibility is the date by which the following conditions will be met: (a) An applicant agrees to begin minority health or health disparities research and (b) the Director, NCMHD, executes the HDR-LRP contract.

(4) Participants must not be Federal employees.

(5) Participants must have a research sponsor or mentor with experience in the area of proposed research and may be enrolled in a training program or appointed under a temporary or permanent employment mechanism for at least two years.

(6) Participants must engage in qualified minority health or other health disparities research for the entire period of their contract, the minimum period of which is for 2 years. Note, however, that membership in racial or ethnic minority groups or in economically disadvantaged groups is not a prerequisite for participation in the HDR-LRP.

(7) Individuals with existing service obligations to Federal, State, or other entities will not be considered for the HDR-LRP unless and until the existing service obligation is discharged or deferred for the length of Program participation.

(8) Individuals are ineligible who have a Federal judgment lien against their property arising from a Federal debt from receiving Federal funds, until the judgment is paid in full or satisfied.

Application Procedures and Selection Process

Submission of applications for participation in the HDR-LRP by eligible individuals should be made to NCMHD on behalf of the applicant by the extramural research institution. The application package should include: (1) All required forms, completed, signed and dated; (2) proposed research and training plan; (3) the credentials or curriculum vitae of the applicant and mentor/advisor; and (4) a description of the research/training environment. The NCMHD will provide current deadlines, sources for assistance, and additional details regarding application procedures in an Applicant Information Bulletin.

Individuals may submit their applications to the Director, NCMHD, and qualified applications will be forwarded to the NCMHD Loan Repayment Review Panel (the Panel), chaired by the Deputy Director, NCMHD, for review. The Panel will review, rank, and approve or disapprove all applications submitted to the HDR-LRP. Priority will be given to biomedical and behavioral researchers.

The Panel will review and select applications for approval based on the merit of the proposed research, the credentials of both the applicant and supervisor, and other criteria deemed appropriate, for example the quality of the mentoring program, which includes the journal clubs or other groups available to the applicant and the planned conferences and seminars to be attended. The quality of the mentor's research program, the proposed training mechanism, and the research methods and scientific techniques to be taught contribute to the merit of the application.

Funds for repayment will only be awarded to applications approved by the NCMHD Loan Repayment Review Panel. As specified by statute, at least 50 percent of contracts will be given to qualified health professionals who are from health disparities populations, which include racial and ethnic minorities as well as individuals from economically disadvantaged backgrounds. This priority is consistent with the statute and the goals of both the NCMHD and the NIH to develop a diversified biomedical research workforce. Meeting this goal is a critical component of the strategy of the NCMHD and the NIH to reduce or eliminate health disparities since investigators from health disparities populations not only have the potential of impacting the medical processes within their communities but they can also engage in as well as promote the development of research programs that reflect an understanding of the variety of issues and problems associated with disparities in health status.

However, membership in a health disparities population is not a prerequisite for participation in the HDR-LRP. Members of the general population may also participate in the program, providing they are conducting minority health or other health disparities research and are United States citizens, nationals, or permanent residents.

Program Administration and Details

Under the HDR-LRP, the NCMHD will repay a portion of the extant qualified educational loan debt incurred by health professionals to pay for their undergraduate, graduate, and/or health professional school educational expenses. Upon application, individuals must have total qualified educational debt that exceeds their anticipated annual salary, stipend, or compensation (“debt threshold”) on the date of program eligibility.

Only qualified loan amounts in excess of 50 percent of the debt threshold will be considered for repayment (“repayable debt”). The repayable debt of qualified health professionals will be satisfied at the rate of one-half of the repayable debt per year, subject to a statutory limit of $35,000 per year, for each year of obligated service. Obligated service requires selected individuals to engage in minority health or other health disparities research for at least 2 years. Following conclusion of the initial two-year contract, participants may apply for renewal contracts to satisfy their remaining repayable debt. These continuation contracts may be submitted and approved on a competitive year-to-year basis, subject to a finding by the NCMHD that the applicant's health disparities research accomplishments are acceptable. Funding of contracts is contingent upon appropriation and/or allocation of funds from the U.S. Congress and/or the NIH.

Concurrent with the issuance of each loan repayment, a 39-percent Federal tax payment is issued to compensate participants for the tax liabilities incurred on their loan payments, which are considered taxable income by the IRS. Depending on the availability of funds and the final level of benefits offered, the NCMHD may make additional tax payments, whether they be for Federal or State taxes, for the additional incremental taxes incurred by recipients that are directly attributable to the loan repayment and Federal tax payments.

In return for the repayment of their educational loans, participants must agree to: (1) Engage in minority health or other health disparities research for a minimum of 2 years; (2) make payments to lenders on their own behalf for periods of Leave Without Pay (LWOP); (3) pay monetary damages as required for breach of contract; and (4) satisfy other terms and conditions of the HDR-LRP's contract and application procedures.

Applicants must submit a signed contract, prepared by the NIH, agreeing to obligated service at the time they apply for consideration under the HDR-LRP. Substantial monetary penalties will be imposed for breach of contract.

The NCMHD will repay lenders for the principal, interest, and related expenses (such as the required insurance premiums on the unpaid balances of some loans) of qualified Government (Federal, State, local) and commercial educational loans obtained by participants for the following:

(1) Undergraduate, graduate, and health professional school tuition expenses;

(2) Other reasonable educational expenses required by the school(s) attended, including fees, books, supplies, educational equipment and materials, and laboratory expenses; and

(3) Reasonable living expenses, including the cost of room and board, transportation and commuting costs, and other living expenses as determined by the NCMHD Director.

Repayments will be authorized for direct payment to lenders, following receipt of: (1) The supervisor's verification of completion of the prior period of obligated service and (2) lender verification of the crediting of prior loan repayments, including the resulting account balances and current account status. The NCMHD will repay loans in the following order unless significant savings would result from repaying loans in a different priority order:

(1) Health Education Assistance Loans (HEAL);

(2) Other loans guaranteed by the Federal Government; and

(3) Other qualifying loans.

The following loans are NOT repayable under the HDR-LRP:

(1) Loans not obtained from a Government entity or commercial or other chartered lending institution, such as loans from friends and relatives, or other private individuals;

(2) Loans for which contemporaneous documentation is not available; and

(3) Loans, or those portions of loans, obtained for educational or living expenses which exceed a “reasonable” level as determined by a review of the standard school budget or additional contemporaneous documentation for the year in which the loan was made.

In addition, for other programs that provide loans, scholarships, loan repayments, or similar awards in exchange for a future service obligation, the NIH will NOT repay any sums that may result from failure to serve as required or conversion of the obligation to a loan under these programs. This includes, but is not limited to the following:

(1) Physicians Shortage Area Scholarship Program (Federal or State);

(2) National Research Service Award Program;

(3) Public Health Service and National Health Service Corps Scholarship Programs;

(4) Armed Forces (Army, Navy, or Air Force) Health Professions Scholarship Programs;

(5) Indian Health Service Scholarship Program.

Finally, payments will not be made under the HDR-LRP for loans that participants have already repaid, delinquent loans, loans in default, loans not current in their payment schedule, or loans for which promissory notes have been signed after the program eligibility date, and PLUS loans. During lapses in loan repayments, due either to administrative complications or a break in service, HDR-LRP participants are wholly responsible for making payments or other arrangements that maintain loans in a current payment status such that increases in either principal or interest do not occur. Penalties assessed participants as a result of NIH administrative complications may be considered for reimbursement.

Dated: July 13, 2001.
Ruth L. Kirschstein,
Acting Director, NIH.

[FR Doc. 01-18909 Filed 7-27-01; 8:45 am]

BILLING CODE 4140-01-P